DEPARTMENT OF THE INTERIOR

Geological Survey

[GX24AC0000EXP00]

Advisory Committee for Science Quality and Integrity; Call for Nominations; Extension

AGENCY: U.S. Geological Survey, Department of the Interior.

ACTION: Notice of extension.

SUMMARY: The Department of the Interior, U.S. Geological Survey (USGS), is seeking nominations for membership on the Advisory Committee for Science Quality and Integrity (Committee). The Committee will advise the Secretary of the Interior and the USGS Director on matters related to the responsibilities of the USGS Office of Science Quality and Integrity (OSQI) including monitoring and enhancing the integrity, quality, and health of all USGS science. This is a 30-day extension of the call for nominations published in the Federal Register on February 26, 2024.

DATES: The deadline for submission of nominations for membership on the Committee published February 26, 2024, at 89 FR 14086 is extended. Nominations for membership on the Committee must be received via email no later than May 10, 2024.

ADDRESSES: You may submit nominations by any of the following methods: Mail nominations to Joanne Taylor, U.S. Geological Survey, Office of Science Quality and Integrity, 12201 Sunrise Valley Drive, Mailstop 911, Reston, VA 20192; or email nominations to jctaylor@usgs.gov.

FOR FURTHER INFORMATION CONTACT: Joanne Taylor, by U.S. mail at the U.S. Geological Survey, 12201 Sunrise Valley Drive, Mailstop 911, Reston, VA 20192; by telephone at 703-648-6837; or by email at jctaylor@usgs.gov.

SUPPLEMENTARY INFORMATION: The Committee is established under the authority of the Secretary of the Interior (Secretary) and regulated by the Federal Advisory Committee Act, as amended (5 U.S.C. ch. 10). The Committee's duties are strictly advisory and will include advising on: (a) Identification of key scientific quality and integrity processes to advance the USGS mission; (b) Effective mechanisms for engaging the next-generation USGS workforce and others through the Youth and Education in Science (YES) program and with other Federal agencies in STEM and underserved communities; (c) The nature and effectiveness of mechanisms to provide oversight of science quality within USGS laboratories; and (d) Mechanisms that may be employed by the USGS to ensure high standards of science quality and integrity in its programs and products.

The Committee will meet approximately one to two times per year. The Committee will consist of no more than 15 members appointed by the Secretary who represent the diversity of this nation's constituencies, and include the following interests:

• Local and State governments;

• Non-governmental organizations;

• Native American, Native Alaskan, and Native Hawaiian organizations, including representatives from Tribal governments and Tribal colleges;

• Academia; and

• Other stakeholders and sectors, including private industry, that make use of USGS science including, but not limited to, areas including laboratory sciences, natural resource managers, natural hazards protections, and wildlife organizations.

The Committee may include scientific experts and will include rotating representation from one or more local, Tribal, State, regional, and/or national organizations.

Nominations should include a resume providing an adequate description of the nominee's qualifications, including information that would enable DOI to make an informed decision regarding meeting the membership requirements of the Committee and to permit a potential member to be contacted.

Members of the Committee serve without compensation. However, while away from their homes or regular places of business, Committee and subcommittee members engaged in Committee or subcommittee business that the DFO approves may be allowed travel expenses, including per diem in lieu of subsistence, as authorized by 5 U.S.C. 5703, in the same manner as persons employed intermittently in Federal Government service.

The original call for nominations was published in the Federal Register (89 FR 14086) on February 26, 2024, with a 45-day nomination period ending April 11, 2024. This notice provides additional time for nominations (see DATES, above).

Authority: 5 U.S.C. ch. 10.

Craig R. Robinson,
Director, Office of Science Quality & Integrity, U.S. Geological Survey.

[FR Doc. 2024-07581 Filed 4-9-24; 8:45 am]

BILLING CODE 4388-11-P